DEPARTMENT OF COMMERCE

National Oceanic and Atmospheric Administration

[Docket No. 030602141-6030-34]

Availability of Grants Funds for Fiscal Year 2006; Regional Research, Information Planning and Coordination

AGENCY: National Sea Grant College Program (Sea Grant), Office of Oceanic and Atmospheric Research (OAR), National Oceanic and Atmospheric Administration (NOAA), Department of Commerce.

ACTION: Notice; reopening of application period.

SUMMARY: The NOAA National Sea Grant College Program publishes this notice to re-open the submission period for the Regional Research, Information Planning and Coordination Competitive funding announcement originally published in the Federal Register on December 23, 2005. The new submission deadline is 5 p.m. e.s.t. on March 1, 2006. The NOAA National Sea Grant College Program publishes this notice to also change the definition of the insular Pacific region in the Federal Funding Opportunity associated with the FRN that was published on December 23, 2005. For the purpose of developing a regional research and information plan, the insular Pacific region is defined as being “comprised of the marine and coastal waters off the State of Hawaii, American Samoa, Guam, the Commonwealth of the Northern Mariana Islands, and the Freely Associated States.”

DATES: The new deadline for applications is 5 p.m. EST on March 1, 2006.

ADDRESSES: Applications should be submitted through Grants.gov APPLY (http://www.grants.gov). Applicants for whom online application is an undue hardship may submit hard copies (an original and two copies) to: National Sea Grant College Program, R/SG, Attn: Regional Competition, Rm 11732, NOAA, 1315 East-West Highway, Silver Spring, MD 20910. The full text of the funding opportunity announcement for this competition can be accessed via Grants.gov FIND Web site: http://www.grants.gov. This announcement will also be available at the NOAA Web site: http://www.ofa.noaa.gov/%7Eamd/SOLINDEX.HTML

FOR FURTHER INFORMATION CONTACT: Dr. Leon M. Cammen, OAR, National Sea Grant Office, 1315 East-West Highway, Silver Spring, MD 20910 or by phone at 301-713-2435 ext. 136, or via e-mail at leon.cammen@noaa.gov.

SUPPLEMENTARY INFORMATION: On December 23, 2005, the NOAA National Sea Grant College Program (Sea Grant) published a notice in the Federal Register soliciting applications for Regional Research, Information Planning and Coordination (70 FR 76258). That announcement solicited proposals for the development of regional research and information plans for U.S. coastal, ocean, and Great Lakes areas. The objective is to use Sea Grant's university capabilities to facilitate discussions among the broad range of regional ocean, coastal, and Great Lakes stakeholders to help identify and prioritize critical resource management problems and associated research and information needs necessary for practical solutions.

Sea Grant publishes this notice to re-open the period for submission of proposals until 5 p.m. e.s.t. on March 1, 2006. Any applications received between February 9, 2006 and March 1, 2006 will be considered timely and will be given full consideration. In addition, for the purpose of developing a regional research and information plan, Sea Grant changes the definition for the insular Pacific region. This area is defined as being “comprised of the marine and coastal waters off the State of Hawaii, American Samoa, Guam, the Commonwealth of the Northern Mariana Islands, and the Freely Associated States.” These actions have been taken in order to provide more time to applicants since putting together regional teams and a planning process that will result in consensus is a complex and difficult task, and in order to be consistent with the National Sea Grant College Program Act of 2002 (Pub. L. 107-299).

Classification

Pre-Award Notification Requirements for Grants and Cooperative Agreements

The Department of Commerce Pre-Award Notification Requirements for Grants and Cooperative Agreements contained in the Federal Register notice of December 30, 2004 (69 FR 78389), are applicable to this solicitation.

Executive Order 12866

It has been determined that this notice is not significant under EO 12866.

Administrative Procedure Act/ Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: February 13, 2006.
Mark E. Brown,
Chief Financial Officer, Office of Oceanic and Atmospheric Research, National Oceanic and Atmospheric Administration.

[FR Doc. E6-2345 Filed 2-16-06; 8:45 am]

BILLING CODE 3510-KD-P